DEPARTMENT OF LABOR

Employment and Training Administration

TA-W-65,258, Shape Corporation, 1900 Hayes St. Plant, Grand Haven, MI; TA-W-65,258A, Shape Corporation, Shape Coatings, Grand Haven, MI; TA-W-65,258B, Shape Corporation, 1835 Hayes St. Plant, Grand Haven, MI; TA-W-65,258C, Shape Corporation, 1835 Industrial Park Dr. Plant, Grand Haven, MI; TA-W-65,258D, Shape Corporation, 14600 172 Ave Plant Grand Haven, MI; TA-W-65,258E, Shape Corporation, Shape Stamping Plant, Spring Lake, MI; TA-W-65,258F, Shape Corporation, Netshape Plant, Grand Haven, MI; TA-W-65,258G, Shape Corporation, 39625 Lewis Dr. Plant, Novi, MI

Amended Certification Regarding Eligibility to Apply for Worker Adjustment Assistance and Alternative Trade Adjustment Assistance

In accordance with Section 223 of the Trade Act of 1974 (19 U.S.C. 2273) the Department of Labor issued a Notice of Certification Regarding Eligibility to Apply for Worker Adjustment Assistance and Alternative Trade Adjustment Assistance on December 3, 2003, applicable to workers of Shape Corporation, Grand Haven, Michigan. The notice was published in the Federal Register on April 7, 2009 (74 FR 15757).

At the request of the petitioner, the Department reviewed the certification for workers of the subject firm. The workers were engaged in the production of a variety of products including bumpers, energy absorbers, truck bed supports, frame rail sets and J.K. rock rails.

The company reports that worker separations occurred at the following locations of the subject firm: 1900 Hayes St. Plant, Grand Haven, Michigan; Shape Coatings Plant, Grand Haven, Michigan; 1835 Hayes St. Plant, Grand Haven, Michigan; 1835 Industrial Park Dr. Plant, Grand Haven, Michigan; 14600 172 Ave Plant, Grand Haven, Michigan; Shape Stamping Plant, Spring Lake, Michigan; Netshape Plant, Grand Haven, Michigan; and 39625 Lewis Dr. Plant, Novi, Michigan. Workers at these locations were engaged in the production of articles that were the basis for the original certification of Shape Corporation, Grand Haven, Michigan (TA-W-65,258).

Accordingly, the Department is amending the certification to include workers of the above cited locations of the subject firm.

The intent of the Department's certification is to include all workers of Shape Corporation who were adversely affected as a supplier of component parts for articles produced by a firm with a currently TAA certified worker group.

—The amended notice applicable to TA-W-65,258 is hereby issued as follows:

“All workers of 1900 Hayes St. Plant, Grand Haven, Michigan (TA-W 65,258); Shape Coatings Plant, Grand Haven, Michigan (TA-W 65,258A); 1835 Hayes St. Plant, Grand Haven, Michigan (TA-W 65,258B); 1835 Industrial Park Dr. Plant, Grand Haven, Michigan (TA-W 65,258C); 14600 172 Ave Plant, Grand Haven, Michigan (TA-W 65,258D); Shape Stamping Plant, Spring Lake, Michigan (TA-W 65,258E); Netshape Plant, Grand Haven, Michigan (TA-W 65,258F); and the 39625 Lewis Dr. Plant, Novi, Michigan (TA-W 65,258G) locations of the subject firm who became totally or partially separated from employment on or after February 16, 2008 through March 16, 2011, are eligible to apply for adjustment assistance under Section 223 of the Trade Act of 1974 and are also eligible to apply for alternative trade adjustment under Section 246 of the Trade Act of 1974.”

Signed at Washington, DC, this 19th day of May 2009.
Richard Church,
Certifying Officer, Division of Trade Adjustment Assistance.

[FR Doc. E9-14326 Filed 6-17-09; 8:45 am]

BILLING CODE 4510-FN-P